DEPARTMENT OF THE INTERIOR

Bureau of Land Management

[AZ-310-5700-BX; AZA-31733]

Notice of Realty Action; Recreation and Public Purposes Act Classification; Arizona; Notice of Availability of Proposed Kingman Resource Management Plan Amendment/Environmental Assessment

AGENCY: Bureau of Land Management, Interior.

ACTION: Notice.

SUMMARY: Pursuant to section 202 of the Federal Land Policy and Management Act (FLPMA) of 1976 (43 U.S.C. 1712) as amended, the Bureau of Land Management (BLM) has prepared an Environmental Assessment/Resource Management Plan (RMP) Amendment for a proposed shooting range. This document, available online at http://www.blm.gov/az/env_docs/library/shooting_range_ea.pdf, analyzes the effects of the proposal on public lands and of amending the RMP to allow for disposal of land necessary for the shooting range and special management designation of land necessary for the buffer, for the Boundary Cone road alternative as described in Supplementary Information below. Pursuant to section 212 of FLPMA, the BLM has examined and found suitable for conveyance under the provisions of the Recreation and Public Purposes (R&PP) Act (43 U.S.C. 869 et seq.), as amended, two parcels of public land, as described in Supplementary Information below, in Mohave Valley near Bullhead City, Mohave County, Arizona. This notice invites comments on BLM's classification of that land as suitable for conveyance under the R&PP Act.

DATES: Protests regarding the proposed land use plan amendment must be postmarked by July 21, 2006. Comments regarding R&PP classification of public land must be postmarked by August 7, 2006.

ADDRESSES: Protests regarding the plan amendment on the Boundary Cone Road location should be sent to the Director, Bureau of Land Management, Attention: Brenda Williams (WO-210), for mail: P. O. Box 66538, Washington, DC 20035 OR for overnight express: 1620 L Street NW., Suite 1075, Washington, DC 20236. Comments regarding the classification of public land for R&PP should be sent to the Kingman Field Office, Bureau of Land Management, 2755 Mission Boulevard, Kingman, AZ 86401.

FOR FURTHER INFORMATION CONTACT: Joyce Cook, Realty Specialist, Kingman Field Office, 2755 Mission Boulevard, Kingman, Arizona, 86401, telephone (928) 718-3716.

SUPPLEMENTARY INFORMATION: The Kingman Resource Management Plan (RMP), approved in March 1995, identified land for R&PP uses, i.e. churches, schools, parks, fire departments, etc. with a caveat that non-conforming uses may be considered on a case-by-case basis. A shooting range is considered to be a non-conforming use. A Notice was previously published, 68 FR 14687, March 26, 2003, regarding the intent to amend the Kingman Resource Management Plan and classify lands for Recreation and Public Purpose for a proposed shooting range as reiterated below:

A—Shooting Range

Gila and Salt River Meridian, Mohave County, Arizona

T. 19 N., R. 21 W., Sec. 35, S½NE¼NE¼, SE¼NW¼NE¼, E½SW¼NE¼, SE¼NE¼, N½NE¼SE¼, N½SW¼NE¼SE¼, NE¼NW¼SE¼, N½SE¼NW¼SE¼;

Sec. 36, S½NW¼NE¼, N½SW¼NE¼, N½S½SW¼NE¼, S½N½NW¼, S½NW¼, N½NE¼NW¼SW¼, NW¼NW¼SW¼;

Containing 315 acres, more or less.

The lands identified under B-Buffer below are being considered through the plan amendment process for special designation for retention and management under a Cooperative Management Plan/Agreement between the Arizona Game and Fish Department and the BLM for safety purposes:

B—Buffer

Gila and Salt River Meridian, Mohave County, Arizona

T. 19 N., R. 21 W., Sec. 25, SW¼NE¼SE¼, S½NW¼SE¼, S½N½SW¼, S½S½;

Sec. 26, S½NE¼SE¼, SE¼NW¼SE¼, E½SW¼SE¼, SE¼SE¼;

Sec. 35, N½NE¼NE¼, NE¼NW¼NE¼;

Sec. 36, N½N½N½, S½NE¼NE¼, N½SE¼NE¼;

Containing 470 acres, more or less.

This location is known as the Boundary Cone Road location and is the proponent's proposed action. It has been examined and found suitable for conveyance under the provisions of the R&PP Act, as amended (43 U.S.C. 869 et seq.) and the public lands described are proposed for classification under section 7 of the Taylor Grazing Act, 43 U.S.C. 315f and Executive Order No. 6910 and the R&PP Act.

Due to Native American concerns, BLM initiated an Alternative Dispute Resolution process with affected stakeholders, including the Fort Mojave and Hualapai tribes, which resulted in the addition of another alternative for analysis. This alternative, known as the Willow Road location, has been examined and found suitable for conveyance under the provisions of the R&PP Act, as amended (43 U.S.C. 869 et seq.) and the public lands described below are proposed for classification under section 7 of the Taylor Grazing Act, 43 U.S.C. 315f and Executive Order No. 6910 and the R&PP Act. This location is on public land described as follows:

Gila and Salt River Meridian, Arizona

T. 18 N., R. 21 W.,

Sec. 28, NE¼, NE¼NE¼NW¼, S½N½NW¼, S½NW¼, S½;

The area described contains approximately 610 acres in Mohave County.

The public lands described above were identified for disposal in the Kingman Resource Management Plan as land not needed for Federal (BLM) purposes and available to support community expansion. Conveyance of the Boundary Cone Road location would be consistent with the Kingman Resource Management Plan if the plan amendment is approved. Conveyance of public land for a shooting range would be in the public interest. The conveyance, if issued, would be subject to the provisions of the R&PP Act and applicable regulations of the Secretary of the Interior and would contain the following reservations to the United States:

1. A right-of-way thereon for ditches and canals constructed by the authority of the United States, Act of August 30, 1890 (43 U.S.C. 945).

2. All Federal minerals shall be reserved to the United States, together with the right to prospect for, mine and remove such deposits from the same under applicable law and such regulations as the Secretary of the Interior may prescribe.

And the conveyance would be subject to:

1. Valid existing rights.

In addition, if the Boundary Cone Road location is selected, the conveyance would be subject to:

1. Those rights for highway purposes as have been granted to Mohave County, its successors or assigns, by right-of-way No. AZA-20911 pursuant to Title V of the Federal Land Policy and Management Act of 1976 (43 U.S.C. 1761) as amended;

2. Those rights for electric power transmission line purposes as have been granted to Citizens Utilities Company, it successors and assigns, by right-of-way No. AZA-24775 pursuant to Title V of the Federal Land Policy and Management Act of 1976 (43 U.S.C. 1761) as amended.

There are no rights-of-way of record on the Willow Road location.

Detailed information concerning this action is available for review at the office of the Bureau of Land Management, Kingman Field Office, 2755 Mission Boulevard, Kingman, Arizona 86401.

Upon publication of this notice in the Federal Register, the public land described under the Willow Road location is segregated from all other forms of appropriation under the public land laws, including the general mining laws, except for conveyance under the R&PP Act, leasing under the mineral leasing laws, and disposal under the mineral material disposal laws. The public lands described under the Boundary Cone Road location were previously segregated by notice 68 FR 14687, March 26, 2003, as noted above.

Classification Comments: Interested parties may submit comments involving the suitability of the Willow Road location for a shooting range site. Comments on the classification are restricted to whether the land is physically suited for the proposal, whether the use will maximize the future use or uses of the land, whether the use is consistent with local planning and zoning, or if the use is consistent with State and Federal programs.

Comments received on the classification will be answered by the State Director with the right to further comment to the Secretary of Interior. In the absence of any comments, the classification will become the final determination of the Department of the Interior.

Protests: A protest to the proposed plan amendment must be filed in accordance with 43 CFR 1610.5-2. Public protests and comments submitted for this planning review, including names and street addresses of respondents, will be available for public review at the Kingman Field Office during regular business hours (7:30 a.m. to 4:30 p.m.), Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM Protest Coordinator at 202-452-5112, and e-mails to Brenda_Hudgens-Williams@blm.gov.

The Environmental Assessment analyzes both alternative locations as well as the No Action Alternative. Upon completion of the protest/comment process, a decision will be made on the location based on the facts presented in the Environmental Assessment. This decision will carry a 30 day appeal period.

Dated: June 13, 2006.
Wayne King,
Kingman Field Manager.

[FR Doc. E6-9654 Filed 6-20-06; 8:45 am]

BILLING CODE 4310-32-P